FEDERAL COMMUNICATIONS COMMISSION

47 CFR Part 73

[DA 01-1765, MM Docket No. 01-15, RM-10030]

Digital Television Broadcast Service; Missoula, MT

AGENCY: Federal Communications Commission.

ACTION: Final rule.

SUMMARY: The Commission, at the request of KPAX Communications, Inc., licensee of station KPAX-TV, substitutes DTV channel 7 for DTV channel 35 at Missoula, Montana. See 66 FR 8557, February 1, 2001. DTV channel 7 can be allotted to Missoula in compliance with the principle community coverage requirements of Section 73.625(a) at reference coordinates (37-01-06 N. and 114-00-41 W.) with a power of 28.0, HAAT of 623 meters and with a DTV service population of 134 thousand. Since Missoula is located within 400 kilometers of the U.S.-Canadian border, concurrence by the Canadian government has been obtained for this allotment. With this action, this proceeding is terminated.

DATES: Effective September 10, 2001.

FOR FURTHER INFORMATION CONTACT: Pam Blumenthal, Mass Media Bureau, (202) 418-1600.

SUPPLEMENTARY INFORMATION: This is a synopsis of the Commission's Report and Order, MM Docket No. 01-15, adopted July 24, 2001, and released July 27, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Montana, is amended by removing DTV channel 35 and adding DTV channel 7 at Missoula.

Federal Communications Commission.
Barbara A. Kreisman,
Chief, Video Services Division, Mass Media Bureau.

[FR Doc. 01-19147 Filed 7-31-01; 8:45 am]

BILLING CODE 6712-01-U